DEPARTMENT OF HEALTH AND HUMAN SERVICES

Substance Abuse and Mental Health Services Administration

National Advisory Committee Notice of Meeting

Pursuant to Public Law 92-463, notice is hereby given of the meeting on of the Substance Abuse and Mental Health Services Administration's (SAMHSA) National Advisory Committee on August 28, 2014.

The meeting will include an update from the SAMHSA Administrator and discussions regarding Healthcare and Parity Implementation.

The meeting is open to the public and will be held online via Microsoft Office 2007 Live Meeting. Interested persons may present data, information, or views, orally or in writing, on issues pending before the committee. Written submissions should be forwarded to the contact person on or before August 18, 2014. Oral presentations from the public will be scheduled at the conclusion of the meeting. Individuals interested in making oral presentations are encouraged to notify the contact on or before August 18, 2014. Five minutes will be allotted for each presentation.

Substantive program information may be obtained after the meeting by accessing the SAMHSA Committee Web site, http://nac.samhsa.gov/, or by contacting Geretta P. Wood.

Committee Name: Substance Abuse and Mental Health Services Administration National Advisory Committee (NAC)

Date/Time/Type: August 28, 2014 from 1:00 p.m. to 4:00 p.m. EDT: (OPEN)

Place: Live meeting webcast: https://www.mymeetings.com/nc/join.php?i=PW7187982&p=AMHSA%20NAC&t=c.

Conference number: PW7187982.

Audience passcode: SAMHSA NAC.

Dial in number: 888-968-4347.

Contact: Geretta Wood, Committee Management Officer and Designated Federal Official, SAMHSA National Advisory Council, SAMHSA's Advisory Committee for Women's Services, 1 Choke Cherry Road, Rockville, Maryland 20857, Telephone: (240) 276-2326, Fax: (240) 276-2253 and Email: geretta.wood@samhsa.hhs.gov.

Cathy J. Friedman,
Public Health Analyst, SAMHSA.

[FR Doc. 2014-18161 Filed 7-31-14; 8:45 am]

BILLING CODE 4162-20-P